POSTAL SERVICE

39 CFR Part 111

Domestic Shipping Services Pricing and Mailing Standards Changes

AGENCY: Postal ServiceTM.

ACTION: Final rule; correction.

SUMMARY: The Postal Service published in the Federal Register of November 8, 2010 (75 FR 68430-68447), a document revising Mailing Standards of the United States Postal Service, Domestic Mail Manual (DMM®), to reflect changes to prices and mailing standards for the following Shipping Services: Express Mail®, Priority Mail®, Parcel Select®, and Recipient Services. This document clarifies and amends mailing standards and shipping package information.

DATES: Effective Date: January 2, 2011.

FOR FURTHER INFORMATION CONTACT: John Gullo at 202-268-8057, or Carol Lunkins at 202-268-7262.

SUPPLEMENTARY INFORMATION: The Postal Service published a document in the Federal Register on November 8, 2010, (75 FR 68430-68447), citing the standards for the January 2, 2011, Shipping Services price change. Under this correction, the Postal Service amends the final rule to make revisions to the standards for determining single-piece weight; to clarify how to order Critical Mail envelopes; and to clarify the eligibility standards for Priority Mail Commercial Plus prices.

Determining Single-Piece Weight

In the original final rule, the Postal Service outlined the procedure for determining single-piece weight for all mail classes. We felt this may cause some confusion when, in fact, the intent was to show the procedure for determining single-piece weight for Shipping Services mailpieces only. The corrected language is shown below and in the applicable DMM reference sections.

To determine single-piece weight for Shipping Services products, express all single-piece weights in decimal pounds rounded off to two decimal places for all pieces mailed at Express Mail, Priority Mail (except for Critical Mail), and Parcel Select prices. Additionally, express all single-piece weights in decimal pounds rounded off to two decimal places for parcels mailed at Parcel Post, Bound Printed Matter, Media Mail, and Library Mail prices. Mailers using the Electronic Verification System (eVS) may round off to two or four decimals, because eVS automatically rounds to the appropriate decimal place. For all other mailpieces, express all single-piece weights in decimal pounds rounded off to four decimal places.

Critical Mail

In the preamble of the original final rule, the Postal Service indicated that mailers could order the new Critical Mail envelopes from the USPS Web site by logging on to http://www.usps.com/shop. The Web site is not to be used for ordering the new Critical Mail products, because the Postal Service has established a toll-free phone number dedicated to authorized Critical Mail customers.

Critical Mail envelopes are provided free of charge by USPS and must be used only for Critical Mail. Authorized customers may order these envelopes only by calling Expedited Packaging Supplies at 1-800-610-8734. These envelopes are not available online or at retail Post Office locations.

Additionally, the original final rule indicated that for Critical Mail prices, customers must meet the account volume threshold of 5,000 barcoded, automation-compatible letter-size and flat-size pieces. This amended final rule clarifies that Critical Mail prices are available to customers who mail a combined total of 5,000 barcoded, automation-compatible Critical Mail and Priority Mail letters and flats in the previous calendar year. As well, all new Critical Mail customers must have a customer commitment agreement with the Postal Service.

Priority Mail Commercial Plus Account Volume Thresholds

In the original final rule, the Postal Service provided standards indicating that the Priority Mail Commercial Plus account volume threshold was reduced from 100,000 pieces to 75,000 total pieces of Priority Mail. This correction clarifies that the Priority Mail Commercial Plus account volume threshold of 75,000 total pieces include Critical Mail.

Additionally, a new alternative threshold was established that permits Commercial Plus prices for customers who exceed 5,000 Priority Mail letters and flats. Again, to clarify, the Priority Mail Commercial Plus account volume threshold includes Critical Mail letters and flats, but does not include the Priority Mail Padded Flat Rate Envelope, and requires a combined total of 5,000 Priority Mail and Critical Mail barcoded, automation-compatible letters and flats in the previous calendar year.

The above corrections are being made to the following DMM sections: 223.1.3.1, 223.1.8, 223.3.1, 313.1.9, 323.1.3.1, 323.1.8, 413.1.9, 423.1.3.1, 423.1.10, 423.3.1, 453.1.4.1, and 604.7.1.1.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

200 Commercial Letters and Cards

* * * * *

220 Priority Mail

223 Prices and Eligibility

1.0 Prices and Fees

* * * * *

1.3 Commercial Plus Prices

1.3.1 Basic Eligibility

[Revise introductory paragraph of 1.3.1 to include Critical Mail as follows:]

For prices, see Notice 123—Price List. Commercial plus prices are available to Priority Mail (including Critical Mail) customers who qualify for commercial base prices and whose cumulative account volume exceeds a combined total of 5,000 letter-size and flat-size pieces or 75,000 total pieces (see 423) in the previous calendar year (except Priority Mail Open and Distribute) or who have a customer commitment agreement with USPS, and are:

* * * * *

[Renumber current 1.4 through 1.7 as 1.5 through 1.8 and add new 1.4 as follows:]

1.4 Critical Mail Prices

1.4.1 Basic Eligibility

Critical Mail letter-size pieces are charged a flat rate regardless of domestic destination or weight for barcoded, automation-compatible letters up to 3 ounces. Critical Mail letter-size pieces that exceed 3 ounces in weight, exceed ¼ inch thickness, or are not barcoded according to 3.2.1, will be charged the Priority Mail Commercial Plus Flat Rate Envelope price (volume thresholds apply). Critical Mail letter prices are commercial plus prices available to Critical Mail customers whose Priority Mail and Critical Mail volume exceeds a combined total of 5,000 letter-size and flat-size pieces (including Flat Rate Envelopes, but not the Padded Flat Rate Envelope), in the previous calendar year or who have a customer commitment agreement (see 1.3.4) with USPS, and that are:

a. Registered end-users of USPS-approved PC Postage products when using a qualifying shipping label managed by the PC Postage system used.

b. Permit imprint customers.

* * * * *

1.8 Determining Single-Piece Weight

[Revise the current last sentence of renumbered 1.8 and add a new last sentence as follows:]

* * * Except Critical Mail, express all single-piece weights in decimal pounds rounded off to two decimal places except mailers using eVS. Mailers using eVS may round off to two or four decimals, because eVS automatically rounds to the appropriate decimal place. If a customer is using a manifest mailing system, the manifest weight field must be properly completed by adhering to the rules relative to the specific manifest.

* * * * *

3.0 Basic Standards for Priority Mail

3.1 Definition

[Revise 3.1 to add DMM reference numbers to Critical Mail as follows:]

Priority Mail is an expedited service and may contain any mailable matter weighing no more than 70 pounds. Lower weight limits apply to some commercial mail parcels under 423.1.0; Critical Mail letters and flats under 223.1.4 and 323.1.4; APO/FPO mail subject to 703.2.0 and 703.4.0 and Department of State mail subject to 703.3.0.

* * * * *

300 Commercial Flats

* * * * *

310 Express Mail

313 Prices and Eligibility

1.0 Prices and Fees

* * * * *

[Add new 1.9 as follows:]

1.9 Determining Single-Piece Weight

When determining single-piece weight, express all weights in decimal pounds rounded off to two decimal places except mailers using eVS. Mailers using eVS may round off to two or four decimals, because eVS will automatically round to the appropriate decimal place. When using a manifest mailing system, the manifest weight field must be properly completed by adhering to the rules relative to the specific manifest.

* * * * *

320 Priority Mail

323 Prices and Eligibility

1.0 Prices and Fees

* * * * *

1.3 Commercial Plus Prices

1.3.1 Basic Eligibility

[Revise text of 1.3.1 to include Critical Mail as follows:]

For prices, see Notice 123—Price List. Commercial plus prices are available to Priority Mail (including Critical Mail) customers who qualify for commercial base prices and whose cumulative account volume exceeds a combined total of 5,000 letter-size and flat-size pieces or 75,000 total pieces (see 423) in the previous calendar year (except Priority Mail Open and Distribute) or who have a customer commitment agreement with USPS, and are:

* * * * *

[Renumber current 1.4 through 1.7 as 1.5 through 1.8 and add new 1.4 as follows:]

1.4 Critical Mail Prices

1.4.1 Basic Eligibility

Critical Mail flat-size pieces are charged a flat rate regardless of domestic destination or weight for barcoded, automation flats up to 13 ounces. Critical Mail flat-size pieces that exceed 13 ounces in weight or exceed ¾ inch thickness, or are not barcoded according to 3.2.1, will be charged the Priority Mail Commercial Plus Flat Rate Envelope price (volume thresholds apply). Critical Mail prices for flats are available to Critical Mail customers whose Priority Mail and Critical Mail volume exceeds a combined total of 5,000 letter-size and flat-size pieces (including Flat Rate Envelopes, but not the Padded Flat Rate Envelope), in the previous calendar year or who have a customer commitment agreement (see 1.4.2) with USPS, and that are:

a. Registered end-users of USPS-approved PC Postage products when using a qualifying shipping label managed by the PC Postage system used.

b. Permit imprint customers.

* * * * *

1.8 Determining Single-Piece Weight

[Revise the last sentence of renumbered 1.8 and add a new last sentence as follows:]

* * * Except for Critical Mail, express all single-piece weights in decimal pounds rounded off to two decimal places except mailers using eVS. Mailers using eVS may round off to two or four decimals, because eVS will automatically round to the appropriate decimal place. If a customer is using a manifest mailing system, the manifest weight field must be properly completed by adhering to the rules relative to the specific manifest.

* * * * *

400 Commercial Parcels

* * * * *

410 Express Mail

413 Prices and Eligibility

1.0 Prices and Fees

* * * * *

1.9 Determining Single-Piece Weight

[Delete current item 1.9 in its entirety and add new 1.9 as follows:]

When determining single-piece weight, express all weights in decimal pounds rounded off to two decimal places except mailers using eVS. Mailers using eVS may round off to two or four decimals, because eVS automatically rounds to the appropriate decimal place. When using a manifest mailing system, the manifest weight field must be properly completed by adhering to the rules relative to the specific manifest.

* * * * *

420 Priority Mail

423 Prices and Eligibility

1.0 Prices and Fees

* * * * *

1.3 Commercial Plus Prices

[Revise the title and text of 1.3.1 to include Critical Mail as follows:]

1.3.1 Commercial Plus Price Eligibility

For prices, see Notice 123—Price List. Commercial plus prices are available to Priority Mail (including Critical Mail) customers who qualify for commercial base prices and whose cumulative account volume exceeds 75,000 pieces or a combined total of 5,000 letter-size and flat-size pieces in the previous calendar year (except Priority Mail Open and Distribute) or who have a customer commitment agreement with USPS, and are:

a. Registered end-users of USPS-approved PC Postage products.

b. Permit imprint customers.

c. Priority Mail Open and Distribute (PMOD) customers whose account volume exceeds 600 PMOD containers (see 705.16.5.1).

d. Permit holders using MRS for Priority Mail items.

e. Customers using USPS-approved IBI postage meters that print the IBI with the appropriate price marking (see 402.2.1) and electronically transmit transactional data daily to USPS for all mailpieces and mail categories.

* * * * *

1.10 Determining Single-Piece Weight

[Revise the last sentence of renumbered 1.10 as follows:]

* * * Express all single-piece weights in decimal pounds rounded off to two decimal places except mailers using eVS. Mailers using eVS may round off to two or four decimals, because eVS automatically rounds to the appropriate decimal place. If a customer is using a manifest mailing system, the manifest weight field must be properly completed by adhering to the rules relative to the specific manifest.

* * * * *

3.0 Basic Standards for Priority Mail

3.1 Definition

[Revise text of 3.1 to change Critical Mail reference numbers as follows:]

* * * Lower weight limits apply to commercial plus cubic (see 1.4); Regional Rate Boxes (see 1.2.2); Critical Mail (see 223.1.4 and 323.1.4); APO/FPO mail subject to 703.2.0 and 703.4.0; and Department of State mail subject to 703.3.0.

* * * * *

450 Parcel Select

453 Prices and Eligibility

1.0 Prices and Fees

* * * * *

1.4 Computing Postage

1.4.1 Determining Single-Piece Weight

[Revise the last sentence of 1.4.1 as follows:]

* * * Except for mailers using eVS, when determining single-piece weight for Parcel Select mailpieces, express all weights in decimal pounds rounded off to two decimal places. Mailers using eVS may round off to two or four decimals, because eVS automatically rounds to the appropriate decimal place. If a customer is using a manifest mailing system, the manifest weight field must be properly completed by adhering to the rules relative to the specific manifest.

* * * * *

600 Basic Standards for All Mailing Services

* * * * *

604 Postage Payment Methods

* * * * *

7.0 Computing Postage

7.1 General Standards

7.1.1 Determining Single-Piece Weight for Retail and Commercial Mail

[Revise the last sentence of 7.1.1 as follows:]

* * * Express all single-piece weights in decimal pounds rounded off to two decimal places for the following mailpieces: Express Mail, Priority Mail (except Critical Mail), Parcel Select, Parcel Post, Bound Printed Matter, Media Mail, and Library Mail prices. Mailers using eVS may round off to two or four decimals, because eVS automatically rounds to the appropriate decimal place. For all other mailpieces, express all single-piece weights in decimal pounds rounded off to four decimal places.

* * * * *

We will publish an appropriate amendment to 39 CFR Part 111 to reflect these changes.

Neva R. Watson,
Attorney, Legislative.

[FR Doc. 2010-30668 Filed 12-7-10; 8:45 am]

BILLING CODE 7710-12-P